DEPARTMENT OF ENERGY

Federal Energy Regulatory Commission

Combined Notice of Filings

Take notice that the Commission has received the following Natural Gas Pipeline Rate and Refund Report filings:

Filings in Existing Proceedings

Docket Numbers: RP22-320-001.

Applicants: ANR Pipeline Company.

Description: Compliance filing: GCXP Notice of Commencement of Service—CP20-8-000 to be effective N/A.

Filed Date: 9/19/22.

Accession Number: 20220919-5121.

Comment Date: 5 p.m. ET 10/3/22.

Any person desiring to protest in any of the above proceedings must file in accordance with Rule 211 of the Commission's Regulations (18 CFR 385.211) on or before 5:00 p.m. Eastern time on the specified comment date.

Filings Instituting Proceedings

Docket Numbers: RP22-1212-000.

Applicants: Monroe Gas Storage Company, LLC.

Description: § 4(d) Rate Filing: Monroe Gas Storage Company, LLC Revisions to FERC Gas Tariff to be effective 10/17/2022.

Filed Date: 9/13/22.

Accession Number: 20220913-5105.

Comment Date: 5 p.m. ET 9/26/22.

Docket Numbers: RP22-1213-000.

Applicants: ABCGrande, LLC v. Northern Border Pipeline Company.

Description: ABCGrande, LLC submits Amendment and correction to the Formal Complaint v. Northern Border Pipeline Company.

Filed Date: 9/19/22.

Accession Number: 20220919-5073.

Comment Date: 5 p.m. ET 10/3/22.

Docket Numbers: RP22-1222-000.

Applicants: Natural Gas Pipeline Company of America LLC.

Description: Compliance filing: Natural's Offer of Settlement Pursuant to Commission's Rule 207 to be effective N/A.

Filed Date: 9/20/22.

Accession Number: 20220920-5009.

Comment Date: 5 p.m. ET 10/3/22.

Docket Numbers: RP22-1223-000.

Applicants: Elba Express Company, L.L.C.

Description: § 4(d) Rate Filing: Atlanta Gas Light Negotiated Rate Filing to be effective 11/1/2022.

Filed Date: 9/20/22.

Accession Number: 20220920-5020.

Comment Date: 5 p.m. ET 10/3/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2022.
Debbie-Anne A. Reese,
Deputy Secretary.

[FR Doc. 2022-21009 Filed 9-27-22; 8:45 am]

BILLING CODE 6717-01-P